DEPARTMENT OF TRANSPORTATION

Federal Aviation Administration

Aviation Rulemaking Advisory Committee: Emergency Evacuation Issues

AGENCY: Federal Aviation Administration (FAA) DOT.

ACTION: Notice of establishment of the Occupant Safety Issues, Aviation Rulemaking Advisory Committee (ARAC).

SUMMARY: Notice is given that the issue of Emergency Evacuation has been changed to Occupant Safety to reflect a broader range of rulemaking activity that may be considered by the Aviation Rulemaking Advisory Committee. This notice informs the public of the change in scope for this ARAC activity.

FOR FURTHER INFORMATION CONTACT: John McGraw, Federal Aviation Administration, Northwest Mountain Region Headquarters, 1601 Lind Avenue, SW., Renton, Washington 98055, (425) 227-2111, FAX (425) 227-1320, or E-Mail, john.mcgraw@faa.gov.

SUPPLEMENTARY INFORMATION:

Background

On January 14, 1991, the Federal Aviation Administration (FAA) announced the establishment of the Aviation Rulemaking Advisory Committee (56 FR 2190, January 22, 1991). The committee held its first meeting at Baltimore, MD, on May 23, 1991 (56 FR 20492, May 3, 1991). At that meeting the Aviation Rulemaking Advisory Committee accepted Emergency Evacuation as an issue on which it would provide advice and recommendations to the FAA. With respect to this issue, the Aviation Rulemaking Advisory Committee would provide advice and recommendations on enhancing the ability of passengers to quickly and safety evacuate an aircraft in an emergency.

The Aviation Rulemaking Advisory Committee has provided several recommendations on issues involving Emergency Evacuation, and the FAA has determined it appropriate to now expand activities of this issue to include tasks associated with occupant safety and protection. As such, the name has been changed to reflect this broader scope. The Aviation Rulemaking Advisory Committee on Occupant Safety will provide advice and recommendations to the FAA and Joint Aviation Authorities (JAA) on a range of rulemaking activities concerning occupant safety and protection and emergency evacuation. Recommendations should consider harmonizing Federal Aviation Regulations and guidance material with Joint Aviation Requirements and advisory circulars joint.

The leadership and operating procedures for Occupant Safety will be similar to that which supported activities concerning Emergency Evacuation and consistent with the terms of the ARAC charter.

Recommendations concerning Occupant Safety may include reports, proposed rules, and guidance and advisory materials and should be harmonized to the maximum extent practicable. The ARAC may choose to establish working groups to provide technical support in carrying out the tasks assigned.

Participation

The ARAC Occupant Safety issues area is composed of representatives from organizations who have interest in an can provide the technical expertise needed to develop recommendations on tasks assigned by the FAA. ARAC members who previously expressed interest in an support activities concerning Emergency Evacuation and members who are now interested in supporting Occupant Safety are asked to validate your interest by contacting the person listed under the caption FOR FURTHER INFORMATION CONTACT. All requests for validation and participation must be received no later than March 30, 2001. The Assistant Chair and Assistant Executive Director for Occupant Safety Issues will review the requests and advise the individuals whether or not their request will be accommodated.

Organizations chosen to support Occupant Safety are expected to provide a primary representative who will represent that segment of the aviation industry/community and actively participate in activities associated with this issue. Member organizations are expected to support the actions of this issue area to ensure that deadlines are met.

The Secretary of transportation has determined that the formation and use of ARAC is necessary and in the public interest in connection with the performance of duties imposed on the FAA by law.

Meetings of ARAC on Occupant Safety Issues will be open to the public. The FAA will make a public announcement of each meeting of this issue area.

Issued in Washington, DC on February 27, 2001.
Anthony F. Fazio,
Executive Director, Aviation Rulemaking Advisory Committee.

[FR Doc. 01-5141 Filed 3-1-01; 8:45 am]

BILLING CODE 4910-13-M